DEPARTMENT OF DEFENSE

Office of the Secretary

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on February 6, 2006 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on December 27, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 29, 2005.
L. M. Bynum,
OSD Federal Register Liaison Officer, Department of Defense.

DWHS E01 DoD

System Name:

DoD Federal Docket Management System (DoDFDMS).

System Location:

Primary. U.S. Environmental Protection Agency, Research Triangle Park, NC 27711-0001.

Secondary Locations:

Washington Headquarters Services, Executive Services Directorate, Information Management Division, 1777 North Kent Street, Roslynn Plaza North, Suite 11000, Arlington, VA 22209-2133.

Washington Headquarters Services, Executive Services Directorate, Directive and Records Division, 17777 North Kent Street, Roslynn Plaza North, Suite 11100, Arlington, VA 22209-2133.

Defense Acquisition Regulation Systems, 241 18th Street, Suite 200A, Arlington, VA 22202-3409.

United States Army Corps of Engineers, 441 G Street, Northwest, 3G81, Washington, DC 20314-1000.

Records also may be located in a designated office of the DoD Component that is the proponent of the rulemaking or notice. The official mailing address for the Component can be obtained from the DoD FDMS system manager.

Categories of Individuals Covered by the System:

Individuals who voluntarily provide personal contact information when submitting a public comment and/or supporting materials in response to a Department of Defense rulemaking document or notice.

Categories of Records in the System:

Full name, postal address, email address, phone and fax number, name of the organization the individual represents, name of any individual serving as a representative for the individual submitting the comment, and the comments, as well as other supporting documentation, furnished by the individual.

Authority for Maintenance of the System:

Public Law 107-347, section 206(d), 44 U.S.C. 3501, Note; 5 U.S.C. 301, Departmental Regulation, and 553, Rule Making; and 10 U.S.C. Chapter 2, Secretary of Defense.

Purpose(s):

The purpose of this system of records is to permit the Department of Defense to identify individuals who have submitted comments in response to DoD rulemaking documents or notices so that communications or other actions, as appropriate and necessary, can be effected, such as a need to seek clarification of the comment, a direct response is warranted, and for such other needs as may be associated with the rulemaking or notice process.

Note: Identification is possible only if the individual voluntarily provides identifying information. If such information is not furnished, the submitted comments and/or supporting documentation cannot be linked to an individual.

Routine Uses of Records Maintained in the System, Including Categories of Users and the Purposes of Such Uses:

In addition to those disclosures generally permitted under 5 U.S.C. 552a(b) of the Privacy Act, these records or information contained therein may specifically be disclosed outside the DoD as a routine use pursuant to 552a(b)(3) as follows:

The DoD ‘Blanket Routine Uses’ set forth at the beginning of OSD's compilation of systems of records notices apply to this system.

Policies and Practices for Storing, Retrieving, Accessing, Retaining, and Disposing of Records in the System:

Storage:

Records are maintained on electronic storage media and paper.

Retrievability:

Records are retrieved by the individual's name.

Safeguards:

Records are maintained in a secure, password protected electronic system that utilizes security hardware and software to include: multiple firewalls, active intruder detection, and role-based access controls. Paper records will be maintained in a controlled facility where physical entry is restricted by the use of locks, guards, or administrative procedures. Access to records is limited to those officials who require the records to perform their official duties consistent with the purpose for which the information was collected. All personnel whose official duties require access to the information are trained in the proper safeguarding and use of the information.

Retention and Disposal:

Disposition pending (until NARA approves retention and disposition schedule, treat records as permanent.)

System Manager(s) and address:

Federal Docket Management System Office, 1160 Defense Pentagon, Washington, DC 20301-1160.

Notification procedure:

Individuals seeking to determine whether this system of records contains information about themselves should address written inquiries to the Federal Docket Management System Office, 1160 Defense Pentagon, Washington, DC 20301-1160.

Requests should contain the full name, address, and telephone number.

Note: FDMS permits an individual, as well as a member of the public, to search the public comments received by the name of the individual submitting the comment. Unless the individual submits the comment anonymously, a name search will result in the comment being displayed for view. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.

Record Access Procedures:

Individuals seeking access to records about themselves contained in this system of records should address a written request to the Federal Docket Management System Office, 1160 Defense Pentagon, Washington, DC 20301-1160.

Requests should contain the full name, address, and telephone number.

As appropriate, requests may be referred to the DoD Component responsible for the rulemaking or notice for processing

Note: FDMS permits a member of the public to download any of the public comments received. If an individual has voluntarily furnished his or her name when submitting the comment, the individual, as well as the public, can view and download the comment by searching on the name of the individual. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.

Contesting Record Procedures:

The procedures for accessing records, for contesting contents and appealing initial agency determinations are contained in regulatory guidance that is published by each of the DoD Components. DoD Component procedural rules can be obtained from the DoD FDMS system manager or are available at http://www.defenselink.mil/privacy/cfr-rules.html.

Record Source Categories:

Individual.

Exemptions Claimed for the System:

None.

[FR Doc. 06-65 Filed 1-4-06; 8:45 am]

BILLING CODE 5001-06-M